DEPARTMENT OF ENERGY

Federal Energy Regulatory Commission

Combined Notice of Filings #1

Take notice that the commission received the following accounting Request filings:

Docket Numbers: AC25-50-000.

Applicants: PacifiCorp.

Description: PacificCorp submits revised proposed accounting entries to record its conveyance of ownership of the Keno Dam, etc.

Filed Date: 3/3/25.

Accession Number: 20250303-5144.

Comment Date: 5 p.m. ET 3/24/25.

Take notice that the Commission received the following electric rate filings:

Docket Numbers: ER25-682-001.

Applicants: PJM Interconnection, L.L.C.

Description: Compliance filing: Compliance Filing Pursuant to Order in ER25-682 to be effective 7/1/2024.

Filed Date: 3/3/25.

Accession Number: 20250303-5170.

Comment Date: 5 p.m. ET 3/24/25.

Docket Numbers: ER25-827-001.

Applicants: PJM Interconnection, L.L.C.

Description: Tariff Amendment: Amendment to WMPA, SA No. 7025; Queue No. AG1-193 (amend) Errata Filing to be effective 3/1/2025.

Filed Date: 3/3/25.

Accession Number: 20250303-5075.

Comment Date: 5 p.m. ET 3/24/25.

Docket Numbers: ER25-1460-000.

Applicants: Eldorado Solar Project II, LLC.

Description: Initial Rate Filing: Application for MBR Authority to be effective 5/4/2025.

Filed Date: 2/28/25.

Accession Number: 20250228-5406.

Comment Date: 5 p.m. ET 3/21/25.

Docket Numbers: ER25-1461-000.

Applicants: Sol InfraCo MT3, LLC.

Description: Initial Rate Filing: Application for MBR Authority to be effective 12/31/9998.

Filed Date: 2/28/25.

Accession Number: 20250228-5411.

Comment Date: 5 p.m. ET 3/21/25.

Docket Numbers: ER25-1462-000.

Applicants: New York Independent System Operator, Inc.

Description: 205(d) Rate Filing: NYISO Section 206: Canadian Import Tariffs to be effective 2/28/2025.

Filed Date: 2/28/25.

Accession Number: 20250228-5426.

Comment Date: 5 p.m. ET 3/10/25.

Docket Numbers: ER25-1463-000.

Applicants: El Paso Electric Company.

Description: 205(d) Rate Filing: OATT Revisions to Schedule 10 to be effective 5/2/2025.

Filed Date: 3/3/25.

Accession Number: 20250303-5000.

Comment Date: 5 p.m. ET 3/24/25.

Docket Numbers: ER25-1467-000.

Applicants: Southwest Power Pool, Inc.

Description: 205(d) Rate Filing: 4058R2 Missouri Electric Commission NITSA NOA to be effective 2/1/2025.

Filed Date: 3/3/25.

Accession Number: 20250303-5023.

Comment Date: 5 p.m. ET 3/24/25.

Docket Numbers: ER25-1469-000.

Applicants: Southwest Power Pool, Inc.

Description: 205(d) Rate Filing: 1148R36 American Electric Power NITSA NOAs to be effective 2/1/2025.

Filed Date: 3/3/25.

Accession Number: 20250303-5072.

Comment Date: 5 p.m. ET 3/24/25.

Docket Numbers: ER25-1470-000.

Applicants: PJM Interconnection, L.L.C.

Description: 205(d) Rate Filing: Amendment to ISA, Service Agreement No. 6471; Queue No. AE1-020 to be effective 5/3/2025.

Filed Date: 3/3/25.

Accession Number: 20250303-5080.

Comment Date: 5 p.m. ET 3/24/25.

Docket Numbers: ER25-1471-000.

Applicants: Midcontinent Independent System Operator, Inc., Michigan Electric Transmission Company, LLC.

Description: 205(d) Rate Filing: Michigan Electric Transmission Company, LLC submits tariff filing per 35.13(a)(2)(iii: 2025-03-03_SA 4453 METC-Grand Basin Energy Storage E&P (J2064) to be effective 2/27/2025.

Filed Date: 3/3/25.

Accession Number: 20250303-5092.

Comment Date: 5 p.m. ET 3/24/25.

Docket Numbers: ER25-1473-000.

Applicants: Eldorado Solar Project II, LLC.

Description: 205(d) Rate Filing: Certificate of Concurrence to SFA to be effective 5/5/2025.

Filed Date: 3/3/25.

Accession Number: 20250303-5112.

Comment Date: 5 p.m. ET 3/24/25.

Docket Numbers: ER25-1474-000.

Applicants: Chalk Point Steam, LLC.

Description: Tariff Amendment: Notice of Cancellation to be effective3/4/2025.

Filed Date: 3/3/25.

Accession Number: 20250303-5121.

Comment Date: 5 p.m. ET 3/24/25.

Docket Numbers: ER25-1475-000.

Applicants: EXUS NM Data Center IV, LLC.

Description: 205(d) Rate Filing: EXUS NM Data Center IV, LLC MBR Application Filing to be effective 3/4/2025.

Filed Date: 3/3/25.

Accession Number: 20250303-5147.

Comment Date: 5 p.m. ET 3/24/25.

Docket Numbers: ER25-1476-000.

Applicants: PJM Interconnection, L.L.C.

Description: Tariff Amendment: Notice of Cancellation WMPA, SA No. 7299; AF2-295 re: Withdrawal to be effective 5/3/2025.

Filed Date: 3/3/25.

Accession Number: 20250303-5175.

Comment Date: 5 p.m. ET 3/24/25.

Docket Numbers: ER25-1477-000.

Applicants: EDPR Northeast Allen Solar Park LLC.

Description: Initial Rate Filing: Shared Facilities Agreement & Request for Waivers and Blanket Authorization to be effective 5/3/2025.

Filed Date: 3/3/25.

Accession Number: 20250303-5176.

Comment Date: 5 p.m. ET 3/24/25.

Docket Numbers: ER25-1478-000.

Applicants: Southwest Power Pool, Inc.

Description: 205(d) Rate Filing: 1166R45 Oklahoma Municipal Power Authority NITSA NOA to be effective 2/1/2025.

Filed Date: 3/3/25.

Accession Number: 20250303-5189.

Comment Date: 5 p.m. ET 3/24/25.

Docket Numbers: ER25-1479-000.

Applicants: Escape Solar LLC.

Description: Initial Rate Filing: Application for Market Based Rate to be effective 4/10/2025.

Filed Date: 3/3/25.

Accession Number: 20250303-5209.

Comment Date: 5 p.m. ET 3/24/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: March 3, 2025.
Carlos D. Clay,
Deputy Secretary.

[FR Doc. 2025-03683 Filed 3-6-25; 8:45 am]

BILLING CODE 6717-01-P